DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street, SW., Washington, DC 20472, (202) 646-2903.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVG) +Elevation in feet (NAVD)
ARIZONA
Gila County, (FEMA Docket No. B-7435)
Bloody Tanks Wash:
Just upstream of Mine Road | *3,310
Just upstream of New Street | *3,357
Approximately 1,700 feet upstream of Southern Pacific Railroad crossing | *3,398
Coyote Wash:
At confluence with Russell Gulch | *3,445
Approximately 2,400 feet upstream of Russell Road | *3,643
Ice House Canyon:
At Pueblo Ruins Road | *3,600
Just upstream of Pinal View Road | *3,670
At confluence of Kellner Canyon | *3,781
Kellner Canyon:
At confluence with Ice House Canyon | *3,781
Approximately 250 feet upstream of Kellner Canyon Road | *3,855
McMillen Wash:
Just downstream of 7th Street | *3,580
Pinal Creek (at Globe):
Approximately 2,400 feet downstream of U.S. Highway 60/70 | *3,417
Just upstream of Dickson Drive | *3,633
Approximately 3,400 feet upstream of Six Shooter Canyon Road | *3,809
Roberts Wash:
At confluence with Russell Gulch | *3,348
Approximately 300 feet upstream of Roberts Road | *3,429
Russell Gulch:
Approximately 800 feet downstream of U.S. Highway 60/70 | *3,304
At confluence of Coyote Wash | *3,444
Approximately 5,000 feet upstream of confluence of Coyote Wash | *3,563
Watertank Wash:
At confluence with Russell Gulch | *3,352
Just upstream of Landfill Lane *3,432
Approximately 5,400 feet upstream of Landfill Lane | *3,681
Maps are available for inspection at the Gila County Courthouse, 1400 East Ash Street, and at the Public Library Office First Floor Planning and Zoning Counter, Globe, Arizona.
———
Miami (Town), Gila County (FEMA Docket No. B-7435)
Bloody Tanks Wash:
Approximately 850 feet upstream of Southern Pacific Railroad crossing | *3,381
Approximately 1,700 feet upstream of Southern Pacific Railroad crossing | *3,398
Maps are available for inspection at the Miami Town Hall, 500 Sullivan Street, and the Memorial Library, 1052 Anonis Avenue, Miami, Arizona.
———
Globe (City), Gila County (FEMA Docket No. B-7435)
Ice House Canyon:
At confluence with Pinal Creek (at Globe) | *3,578
Approximately 100 feet upstream of Pueblo Ruins Road | *3,602
McMillen Wash:
At confluence with Pinal Creek (at Globe) | *3,539
Just upstream of U.S. Highway 60/70 | *3,625
Just downstream of West Mesquite Street | *3,768
Pinal Creek (at Globe):
Approximately 200 feet upstream of Ruiz Canyon Road | *3,539
Approximately 1,200 feet upstream of confluence of Ice House Canyon | *3,592
Russell Gulch:
Just downstream of Hospital Drive | *3,324
At confluence of Roberts Wash | *3,347
Approximately 1,000 feet upstream of confluence of Watermark Wash | *3,363
Watertank Wash:
Approximately 4,000 feet upstream of Landfill Lane | *3,602
Approximately 4,500 feet upstream of Landfill Lane | *3,630
Maps are available for inspection at the Globe City Hall, 150 North Pine Street, and at the Public Library, 339 South Broad Street, Globe, Arizona.
CALIFORNIA
Stanislaus County, (FEMA Docket No. B-7443)
Stanislaus River:
Approximately 5 miles downstream of State Highway 99 | *45
Approximately 1,600 feet upstream of Orange Blossom Road | *131
Maps are available for inspection at 1010 10th Street, Modesto, California.
———
Oakdale (City), Chelan County, (FEMA Docket No. B-7443)
Stanislaus River:
Approximately 4,700 feet downstream of State Highway 120 | *101
Approximately 2 miles upstream of State Highway 120 | *114
Maps are available for inspection at the Community Development Department, 455 South Fifth Avenue, Oakdale, California or the Stanislaus County Library (Oakdale Branch) 151 South First Avenue, Oakdale, California.
———
Riverbank (City), Chelan County, (FEMA Docket No. B-7443)
Stanislaus River:
Approximately 4,800 feet downstream of Riverbank Highway | *84
Approximately 4,000 feet upstream of Riverbank Highway | *87
Maps are available for inspection at City Hall, 6707 Third Street, Riverbank, California.
COLORADO
Pitkin County, (FEMA Docket No. B-7439)
Southside Split Flow:
Approximately 1,200 feet downstream of State Highway 82 Bypass | *6,558
Approximately 6,000 feet upstream of State Highway 82 Bypass | *6,637
Roaring Fork River:
Approximately 5,500 feet downstream of Hooks Spur Road | *6,526
Approximately 50 feet downstream of confluence of Snowmass Creek | *6,844
Maps are available for inspection at the GIS Department, 130 South Galena Street, Aspen, Colorado.
MONTANA
Fort Peck Assionboine and Sioux Tribes (FEMA Docket No. B-7443)
Big Muddy Creek:
At confluence with Missouri River | +1,914
Approximately 2 miles upstream of State Route 258 bridge | +1,965
Missouri River:
Approximately 8 miles downstream of confluence with Big Muddy Creek | +1,910
Approximately 2,000 feet upstream of the confluence with Milk River | +2,032
Poplar River:
At confluence with Missouri River | +1,955
Approximately 1,200 feet downstream of the confluence with West Fork Poplar River | +2,191
Porcupine Creek:
Approximately 3,600 feet downstream of U.S. Highway 2 | +2,058
Approximately 5 miles downstream of Midway Dam at the boundary of Section 26 and 35 Township 32 North Range 40 East | +2,575
Maps are available for inspection at 501 Medicine Bear Road, Poplar, Montana.
OREGON
Portland (City), Clackamas/ Multnomah County, (FEMA Docket No. B-7433)
Crystal Springs Creek:
Just downstream of SE Sherret Street at confluence with Johnson Creek | *48
Approximately 1,150 feet upstream of 28th Avenue | *77
Johnson Creek:
Just upstream of SE Ochoco Street | *44
Just downstream of Circle Avenue | *252
Maps are available for inspection at the Office of Planning and Development Review, 1900 Southwest Fourth Avenue, Room 50, Portland, Oregon.
WASHINGTON
Chelan County, (FEMA Docket No. B-7443)
Wenatchee River:
Approximately 100 feet upstream of Old Monitor Road | *717
Approximately 1.7 miles upstream of Main Street | *1,046
Maps are available for inspection at the Department of Public Works, 350 Orondo Street, Wenatchee, Washington.
———
Cashmere (City), Chelan County, (FEMA Docket No.# B-7443)
Wenatchee River:
Approximately 1,300 feet downstream of Cottage Avenue | *756
Approximately 1.7 miles upstream of Cottage Avenue | *763
Maps are available for inspection at City Hall, 101 Woodring Street, Cashmere, Washington.

(Catalog of Federal Domestic Assistance No. 83.100, “Flood Insurance”)
Dated: June 15, 2004.
Archibald C. Reid, III,
Acting Director, Mitigation Division, Emergency Preparedness and Response Directorate.

[FR Doc. 04-14103 Filed 6-21-04; 8:45 am]

BILLING CODE 9110-12-P